FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than December 26, 2000.

A. Federal Reserve Bank of New York (Betsy Buttrill White, Senior Vice President) 33 Liberty Street, New York, New York 10045-0001:

1. TrustCo Bank Corp NY, Schenectady, New York; to acquire 100 percent of the voting shares of Hudson River Bancorp, Inc., Hudson, New York, and thereby indirectly acquire voting shares of Hudson River Bank & Trust Company, Hudson, New York.

2. TrustCo Bank Corp NY, Schenectady, New York; to acquire 100 percent of the voting shares of Cohoes Bancorp, Inc., Cohoes, New York, and thereby indirectly acquire voting shares of Cohoes Savings Bank, Cohoes, New York.

B. Federal Reserve Bank of Kansas City (D. Michael Manies, Assistant Vice President) 925 Grand Avenue, Kansas City, Missouri 64198-0001:

1. United Nebraska Financial Co., Grand Island, Nebraska; to acquire 80 percent of the voting shares of Desert Valley National Bank at Cave Creek, Arizona, Cave Creek, Arizona, a de novo bank in organization.

C. Federal Reserve Bank of San Francisco (Maria Villanueva, Consumer Regulation Group) 101 Market Street, San Francisco, California 94105-1579:

1. Gateway Bancorp, LLC, Santa Ana, California; to become a bank holding company by acquiring 74.2 percent of the voting shares of Bank of Lakewood, Lakewood, California.

In connection with this application, Applicant also has applied to acquire Mission Hills Mortgage Corporation, Santa Ana, California, and thereby engage in extending credit and servicing loans, pursuant to § 225.28(b)(1) of Regulation Y.

Board of Governors of the Federal Reserve System, November 27, 2000.
Robert deV. Frierson,
Associate Secretary of the Board.

[FR Doc. 00-30551 Filed 11-29-00; 8:45 am]

BILLING CODE 6210-01-P